DEPARTMENT OF TRANSPORTATION

Coast Guard

46 CFR Parts 110 and 111

[USCG-1999-6096]

RIN 2115-AF89

Marine Shipboard Electrical Cable Standards

AGENCY: Coast Guard, DOT.

ACTION: Notice of proposed rulemaking; reopening of comment period.

SUMMARY: The Coast Guard is reopening the period for public comment on its notice of proposed rulemaking (NPRM) on Marine Shipboard Electrical Cable Standards. Because of several requests for additional time to comment, the Coast Guard is reopening the comment period for 45 days.

DATES: Comments must reach the Coast Guard on or before September 11, 2000.

ADDRESSES: Please submit your comments and related material by any one of the following methods (but by only one, to avoid multiple listings in the public docket):

(1) By mail to the Docket Management Facility, [USCG-1999-6096], U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

FOR FURTHER INFORMATION CONTACT: For questions on the substance of the rulemaking, call Dolores Mercier, Project Manager, Office of Design and Engineering Standards, (G-MSE), Coast Guard, telephone 202-267-0658. For questions on viewing or submitting material to the docket, call Ms. Dorothy Beard, Chief of Dockets, Department of Transportation, telephone 202-366-9329.

SUPPLEMENTARY INFORMATION:

Request for Comments

The notice of proposed rulemaking (NPRM) on Marine Shipboard Electrical Cable Standards, published on February 8, 2000 (65 FR 6111), encouraged interested persons to participate in this rulemaking by submitting written data, views, or arguments by May 8, 2000. On June 5, 2000, we published a notice of public meeting and reopened the comment period until July 7, 2000 (65 FR 35600). The public meeting was held on June 28, 2000. We are again reopening the comment period until September 11, 2000.

Persons submitting comments should include their names and addresses, identify this docket (USCG-1999-6096) and the specific section of the NPRM to which each comment applies, and give the reason for each comment. Please submit one copy of each comment and attachment in an unbound format, no larger than 8½ by 11 inches, suitable for copying and electronic filing, to the DOT Docket Management Facility at the address under ADDRESSES. If you want acknowledgment of receipt of your comment, enclose a stamped, self-addressed postcard or envelope.

The Coast Guard will consider all comments received during the comment period. It may change this NPRM in view of them.

Dated: July 19, 2000.
Joseph J. Angelo,
Director of Standards, Marine Safety and Environmental Standards.

[FR Doc. 00-18940 Filed 7-26-00; 8:45 am]

BILLING CODE 4910-15-U